DEPARTMENT OF ENERGY

Federal Energy Regulatory Commission

Combined Notice of Filings #1

Take notice that the Commission received the following electric corporate filings:

Docket Numbers: EC16-65-000.

Applicants: UIL Holdings Corporation.

Description: Application for Authority under Section 203 for internal corporate reorganization of UIL Holdings Corporation.

Filed Date: 1/28/16.

Accession Number: 20160128-5346.

Comments Due: 5 p.m. ET 2/18/16.

Take notice that the Commission received the following electric rate filings:

Docket Numbers: ER10-3232-004; ER14-2871-007; ER16-182-002; ER10-3244-009; ER10-3251-007; ER14-2382-007; ER15-621-006; ER15-622-006; ER15-463-006; ER16-72-002; ER15-110-006; ER13-1586-008; ER10-1992-014.

Applicants: Wheelabrator Shasta Energy Company Inc., Cameron Ridge, LLC, Cameron Ridge II, LLC, Coso Geothermal Power Holdings, LLC, Oak Creek Wind Power, LLC,ON Wind Energy LLC, Pacific Crest Power, LLC, Ridgetop Energy, LLC, San Gorgonio Westwinds II, LLC, San Gorgonio Westwinds II—Windustries, LLC, Terra-Gen Energy Services, LLC, TGP Energy Management, LLC, Victory Garden Phase IV, LLC.

Description: Supplement to December 31, 2015 Triennial Market Power Analysis of the ECP MBR Sellers.

Filed Date: 1/27/16.

Accession Number: 20160127-5595.

Comments Due: 5 p.m. ET 2/29/16.

Docket Numbers: ER10-2633-023; ER10-2570-023; ER10-2717-023; ER10-3140-022; ER13-55-013.

Applicants: Birchwood Power Partners, L.P., Shady Hills Power Company, L.L.C., EFS Parlin Holdings, LLC, Inland Empire Energy Center, LLC, Homer City Generation, L.P.

Description: Notice of Non-Material Change in Status of the GE Companies.

Filed Date: 1/28/16.

Accession Number: 20160128-5333.

Comments Due: 5 p.m. ET 2/18/16.

Docket Numbers: ER12-1308-007.

Applicants: Palouse Wind, LLC.

Description: Notice of Change in Status of Palouse Wind, LLC.

Filed Date: 1/28/16.

Accession Number: 20160128-5337.

Comments Due: 5 p.m. ET 2/18/16.

Docket Numbers: ER14-1656-008.

Applicants: CSOLAR IV West, LLC.

Description: Notification of Change in Status of CSOLAR IV West, LLC.

Filed Date: 1/28/16.

Accession Number: 20160128-5351.

Comments Due: 5 p.m. ET 2/18/16.

Docket Numbers: ER14-2140-005; ER14-2141-005; ER15-632-003; ER15-634-003; ER14-2466-004; ER14-2465-004; ER14-2939-002; ER15-1952-002; ER15-2728-003.

Applicants: Mulberry Farm, LLC, Selmer Farm, LLC, CID Solar, LLC, Cottonwood Solar, LLC, RE Camelot LLC, RE Columbia Two LLC, Imperial Valley Solar Company (IVSC) 2, LLC, Pavant Solar LLC, Maricopa West Solar PV, LLC.

Description: Notice of Non-Material Change in Status of the Dominion Companies.

Filed Date: 1/28/16.

Accession Number: 20160128-5359.

Comments Due: 5 p.m. ET 2/18/16.

Docket Numbers: ER15-485-001.

Applicants: New York Independent System Operator, Inc.

Description: Compliance filing: Compliance establish effective date—Transmission Shortage Costs to be effective 2/11/2016.

Filed Date: 1/28/16.

Accession Number: 20160128-5150.

Comments Due: 5 p.m. ET 2/18/16.

Docket Numbers: ER16-804-000.

Applicants: Southern California Edison Company.

Description: § 205(d) Rate Filing: GIA and Distribution Service Agmt for San Gabriel Cogeneration Project to be effective 3/29/2016.

Filed Date: 1/28/16.

Accession Number: 20160128-5249.

Comments Due: 5 p.m. ET 2/18/16.

Docket Numbers: ER16-805-000.

Applicants: Thunder Spirit Wind, LLC.

Description: Tariff Cancellation: Cancellation of MBR Tariff to be effective 1/29/2016.

Filed Date: 1/28/16.

Accession Number: 20160128-5250.

Comments Due: 5 p.m. ET 2/18/16.

Docket Numbers: ER16-806-000.

Applicants: Nassau Energy, LLC.

Description: Baseline eTariff Filing: Application for Market-Based Rate Authorization to be effective 3/27/2016.

Filed Date: 1/28/16.

Accession Number: 20160128-5253.

Comments Due: 5 p.m. ET 2/18/16.

Docket Numbers: ER16-807-000.

Applicants: Peetz Logan Interconnect, LLC.

Description: Tariff Cancellation: Notice of Cancellation of Peetz Logan Interconnect, LLC OATT to be effective 3/29/2016.

Filed Date: 1/28/16.

Accession Number: 20160128-5259.

Comments Due: 5 p.m. ET 2/18/16.

Docket Numbers: ER16-808-000.

Applicants: Southern California Edison Company.

Description: § 205(d) Rate Filing: GIA and Distribution Service Agmt Wind Stream Operations, LLC to be effective 1/24/2016.

Filed Date: 1/29/16.

Accession Number: 20160129-5027.

Comments Due: 5 p.m. ET 2/19/16.

Docket Numbers: ER16-809-000.

Applicants: Pacific Gas and Electric Company.

Description: § 205(d) Rate Filing: Quarterly Filing of City and County of San Francisco's WDT SA 275 for Q4 2015 to be effective 4/1/2016.

Filed Date: 1/29/16.

Accession Number: 20160129-5028.

Comments Due: 5 p.m. ET 2/19/16.

Docket Numbers: ER16-810-000.

Applicants: MidAmerican Energy Company.

Description: § 205(d) Rate Filing: First Revised Interconnection Agreement—Waverly to be effective 1/29/2016.

Filed Date: 1/29/16.

Accession Number: 20160129-5051.

Comments Due: 5 p.m. ET 2/19/16.

Docket Numbers: ER16-811-000.

Applicants: Consumers Energy Company.

Description: Notice of Cancellation Service Agreement No. 8 of Consumers Energy Company.

Filed Date: 1/28/16.

Accession Number: 20160128-5358.

Comments Due: 5 p.m. ET 2/18/16.

Docket Numbers: ER16-812-000.

Applicants: Public Service Company of New Mexico.

Description: Tariff Cancellation: Notice of Cancellation of Transmission Service Agreement to be effective 12/15/2015.

Filed Date: 1/29/16.

Accession Number: 20160129-5085.

Comments Due: 5 p.m. ET 2/19/16.

Docket Numbers: ER16-813-000.

Applicants: PJM Interconnection, L.L.C.

Description: § 205(d) Rate Filing: Amended ISA No. 4012, Queue No. W1-003/Z1-100/AA1-025 et al to be effective 4/28/2015.

Filed Date: 1/29/16.

Accession Number: 20160129-5094.

Comments Due: 5 p.m. ET 2/19/16.

Docket Numbers: ER16-814-000.

Applicants: PJM Interconnection, L.L.C.

Description: § 205(d) Rate Filing: Revisions to OATT and OA RE Removing 10% Adder for Offers Greater than $2,000 to be effective 3/29/2016.

Filed Date: 1/29/16.

Accession Number: 20160129-5145.

Comments Due: 5 p.m. ET 2/19/16.

Docket Numbers: ER16-815-000.

Applicants: Midcontinent Independent System Operator, Inc.

Description: § 205(d) Rate Filing: 2016-01-29 Ramp True-up Filing to be effective 4/1/2016.

Filed Date: 1/29/16.

Accession Number: 20160129-5156.

Comments Due: 5 p.m. ET 2/19/16.

Docket Numbers: ER16-816-000.

Applicants: NSTAR Electric Company.

Description: Notice of Termination of Service Agreement No. 68 under Schedule 21-NSTAR of the ISO New England OATT filed by NSTAR Electric Company.

Filed Date: 1/29/16.

Accession Number: 20160129-5190.

Comments Due: 5 p.m. ET 2/19/16.

Docket Numbers: ER16-817-000.

Applicants: PJM Interconnection, L.L.C.

Description: § 205(d) Rate Filing: 4th Quarter 2015 Update to OA/RAA Member Lists to be effective 12/31/2015.

Filed Date: 1/29/16.

Accession Number: 20160129-5193.

Comments Due: 5 p.m. ET 2/19/16.

Docket Numbers: ER16-818-000.

Applicants: ISO New England Inc., New England Power Pool Participants Committee.

Description: § 205(d) Rate Filing: Negawatt Membership Termination Filing to be effective 1/1/2016.

Filed Date: 1/29/16.

Accession Number: 20160129-5197.

Comments Due: 5 p.m. ET 2/19/16.

Docket Numbers: ER16-819-000.

Applicants: ISO New England Inc., New England Power Pool Participants Committee.

Description: § 205(d) Rate Filing: Revisons to Attachment K Related to Timing of Regional System Plan Report to be effective 3/29/2016.

Filed Date: 1/29/16.

Accession Number: 20160129-5210.

Comments Due: 5 p.m. ET 2/19/16.

Docket Numbers: ER16-820-000.

Applicants: New England Power Pool Participants Committee, ISO New England Inc.

Description: § 205(d) Rate Filing: NAPP Membership Termination Filing to be effective 1/1/2016.

Filed Date: 1/29/16.

Accession Number: 20160129-5212.

Comments Due: 5 p.m. ET 2/19/16.

Docket Numbers: ER16-821-000.

Applicants: Alabama Power Company.

Description: § 205(d) Rate Filing: AMEA NITSA Rollover Filing to be effective 1/1/2016.

Filed Date: 1/29/16.

Accession Number: 20160129-5213.

Comments Due: 5 p.m. ET 2/19/16.

Docket Numbers: ER16-822-000.

Applicants: Alabama Power Company.

Description: § 205(d) Rate Filing: SMEPA NITSA and NOA Amendment Filing to be effective 1/1/2016.

Filed Date: 1/29/16.

Accession Number: 20160129-5217.

Comments Due: 5 p.m. ET 2/19/16.

Docket Numbers: ER16-823-000.

Applicants: Alabama Power Company.

Description: § 205(d) Rate Filing: SEPA Network Agreement Revision No. 4 Filing to be effective 1/1/2016.

Filed Date: 1/29/16.

Accession Number: 20160129-5219.

Comments Due: 5 p.m. ET 2/19/16.

Docket Numbers: ER16-824-000.

Applicants: Duke Energy Progress, LLC.

Description: § 205(d) Rate Filing: Amendment to NCEMC NITSA SA No. 134 to be effective 1/1/2016.

Filed Date: 1/29/16.

Accession Number: 20160129-5221.

Comments Due: 5 p.m. ET 2/19/16.

Docket Numbers: ER16-825-000.

Applicants: Duke Energy Indiana, LLC.

Description: § 205(d) Rate Filing: Name Change Filing to be effective 4/1/2016.

Filed Date: 1/29/16.

Accession Number: 20160129-5223.

Comments Due: 5 p.m. ET 2/19/16.

Take notice that the Commission received the following electric securities filings:

Docket Numbers: ES16-22-000.

Applicants: International Transmission Company.

Description: Application pursuant to Section 204 of the Federal Power Act of International Transmission Company for authorization to issue debt securities.

Filed Date: 1/28/16.

Accession Number: 20160128-5350.

Comments Due: 5 p.m. ET 2/18/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2016.
Nathaniel J. Davis, Sr.,
Deputy Secretary.

[FR Doc. 2016-02073 Filed 2-3-16; 8:45 am]

BILLING CODE 6717-01-P